DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Advocacy Questionnaire.

Agency Form Number: ITA-4133P.

OMB Number: 0625-0220.

Type of Request: Regular Submission.

Burden: 205.

Number of Respondents: 200.

Avg. Hours Per Response: 30 minutes.

Needs and Uses: The U.S. Department of Commerce invites the general public and other Federal agencies to comment on the proposed extension of the use of the advocacy questionnaire by the Trade Promotion Coordination Committee's (TPCC) Advocacy Network. The questionnaire is used to evaluate requests for United States' Government (USG) commercial advocacy in connection with overseas bids and proposals. The International Trade Administration's Advocacy Center marshals federal resources to assist U.S. business interests competing for foreign government procurements worldwide. The mission of the Advocacy Center is to coordinate USG commercial advocacy in order to promote U.S. exports and create U.S. jobs. The Advocacy Center is under the umbrella of the TPCC, which is chaired by the Secretary of Commerce and includes 19 federal agencies involved in export promotion. The purpose of the advocacy questionnaire is to collect the information necessary to make an evaluation about a company's eligibility for USG advocacy assistance. There are clear, well established USG advocacy guidelines that describe the various situations in which the USG can provide advocacy support for a firm. The questionnaire was developed to collect only the information necessary to determine if the firm meets the eligibility requirements set forth in these guidelines. The Advocacy Center, appropriate ITA officials, our U.S. Embassies worldwide, and other federal government agencies (the Advocacy Network) that provide advocacy support, will require firms seeking USG advocacy support to complete the questionnaire. Without this information, the USG would be unable to make eligibility determinations.

Affected Public: Businesses or other for-profits.

Frequency: Occasionally.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution, NW, Washington, DC 20230 or via internet at MClayton@doc.gov.

Written comments and recommendations for the proposed information collection should be sent to David Rostker, OMB Desk Officer, Room 10202, New Executive Office Building, Washington, DC 20503 within 30 days of the publication of this notice in the Federal Register.

Dated: January 10, 2002.
Madeleine Clayton,
Departmental Paperwork Clearance Officer, Office of the Chief Information Officer.

[FR Doc. 02-1039 Filed 1-15-02; 8:45 am]

BILLING CODE 3510-DR-P